DEPARTMENT OF AGRICULTURE

Animal and Plant Health Inspection Service

7 CFR Part 301

[Docket No. 01-048-1]

Pine Shoot Beetle; Addition to Quarantined Areas

AGENCY: Animal and Plant Health Inspection Service, USDA.

ACTION: Interim rule and request for comments.

SUMMARY: We are amending the pine shoot beetle regulations by adding counties in Illinois, Indiana, Maine, Maryland, New York, Ohio, Pennsylvania, Vermont, and West Virginia to the list of quarantined areas. This action is necessary to prevent the spread of pine shoot beetle, a pest of pine products, into noninfested areas of the United States. We are also making nonsubstantive revisions to the entries for Illinois, Indiana, Michigan, New York, and Ohio to address inconsistencies in the county listings and correct misspellings.

DATES: This interim rule is effective on July 18, 2001. We invite you to comment on this docket. We will consider all comments that we receive by September 17, 2001.

ADDRESSES: Please send four copies of your comment (an original and three copies) to: Docket No. 01-048-1, Regulatory Analysis and Development, PPD, APHIS, Suite 3C03, 4700 River Road, Unit 118, Riverdale, MD 20737-1238. Please state that your comment refers to Docket No. 01-048-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Jonathan Jones, Operations Officer, Invasive Species and Pest Management, PPQ, APHIS, 4700 River Road, Unit 134, Riverdale, MD 20737-1236, (301) 734-8247.

SUPPLEMENTARY INFORMATION:

Background

The regulations in 7 CFR 301.50 through 301.50-10 (referred to below as the regulations) restrict the interstate movement of certain regulated articles from quarantined areas in order to prevent the spread of pine shoot beetle (PSB) into noninfested areas of the United States.

PSB is a pest of pine trees that can cause damage in weak and dying trees, where reproduction and immature stages of PSB occur. During “maturation feeding,” young beetles tunnel into the center of pine shoots (usually of the current years growth), causing stunted and distorted growth in host trees. PSB is also a vector of several diseases of pine trees. Factors that may result in the establishment of PSB populations far from the location of the original host tree include: (1) Adults can fly at least 1 kilometer, and (2) infested trees and pine products are often transported long distances. This pest damages urban ornamental trees and can cause economic losses to the timber, Christmas tree, and nursery industries.

PSB hosts include all pine species. The beetle has been found in a variety of pine species (Pinus spp.) in the United States. Scotch pine (P. sylvestris) is the preferred host of PSB. The Animal and Plant Health Inspection Service (APHIS) has determined, based on scientific data from European countries, that fir (Abies spp.), spruce (Larix spp.), and larch (Picea spp.) are not hosts of PSB.

Surveys conducted by State and Federal inspectors revealed 83 additional areas infested with PSB in 9 states (Illinois, Indiana, Maine, Maryland, New York, Ohio, Pennsylvania, Vermont, West Virginia). Copies of the surveys may be obtained by writing to the individual listed under FOR FURTHER INFORMATION CONTACT.

The regulations in § 301.50-3 provide that the Administrator of APHIS will list as a quarantined area each State, or each portion of a State, in which PSB has been found by an inspector, in which the Administrator has reason to believe PSB is present, or that the Administrator considers necessary to regulate because of its inseparability for quarantine enforcement purposes from localities in which PSB has been found.

In accordance with these criteria, we are designating De Witt, Macon, and Whiteside Counties, IL; Boone, Clinton, Johnson, Parke, Shelby, and Vermillion Counties, IN; Oxford County, ME; Frederick County, MD; Delaware, Otsego, and St. Lawrence Counties, NY; Butler, Champaign, Clark, Darke, Fairfield, Greene, Guernsey, Hamilton, Madison, Miami, Montgomery, Muskingum, Pickaway, Preble, Shelby, Vinton, and Warren Counties, OH; Huntingdon County, PA; Caledonia County, VT; and the remaining 50 counties in West Virginia, as quarantined areas, and we are adding them to the list of quarantined areas provided in § 301.50-3(c).

Miscellaneous

We are also making nonsubstantive revisions to § 301.50-3(c) to address inconsistencies in the county listings and correct misspellings in the entries for Illinois, Indiana, Michigan, New York, and Ohio.

Emergency Action

This rulemaking is necessary on an emergency basis to prevent PSB from spreading to noninfested areas of the United States. Under these circumstances, the Administrator has determined that prior notice and opportunity for public comment are contrary to the public interest and that there is good cause under 5 U.S.C. 553 for making this rule effective less than 30 days after publication in the Federal Register. We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

This emergency situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. Section 301.50-3 is amended as follows:

a. In paragraph (c), under Illinois, by adding new counties in alphabetical order and by revising the entries for Cook, Du Page, Iroquois, Kankakee, and Livingston.

b. In paragraph (c), under Indiana, by adding new counties in alphabetical order and by revising the entries for Benton, De Kalb, Delaware, Grant, Huntington, Miami, Tippecanoe, and White.

c. In paragraph (c), by adding a new entry for Maine.

d. In paragraph (c), under Maryland, by adding a new county in alphabetical order.

e. In paragraph (c), under Michigan, by revising the entries.

f. In paragraph (c), under New York, by revising the entries.

g. In paragraph (c), under Ohio, by adding new counties in alphabetical order and by revising the entries for Erie and Knox.

h. In paragraph (c), under Pennsylvania, by adding a new county in alphabetical order.

i. In paragraph (c), under Vermont, by adding a new county in alphabetical order.

j. In paragraph (c), under West Virginia, by revising the entries to include the entire State.

k. In paragraph (d), by revising the map.

§ 301.50-3 Quarantined areas.

* * * * *

(c) * * *

Illinois

* * * * *

Cook County. The entire county.

* * * * *

De Witt County. The entire county.

Du Page County. The entire county.

* * * * *

Iroquois County. The entire county.

* * * * *

Kankakee County. The entire county.

* * * * *

Livingston County. The entire county.

* * * * *

Macon County. The entire county.

* * * * *

Whiteside County. The entire county.

* * * * *

Indiana

* * * * *

Benton County. The entire county.

* * * * *

Boone County. The entire county.

* * * * *

Clinton County. The entire county.

De Kalb County. The entire county.

Delaware County. The entire county.

* * * * *

Grant County. The entire county.

* * * * *

Huntington County. The entire county.

* * * * *

Johnson County. The entire county.

* * * * *

Miami County. The entire county.

* * * * *

Parke County. The entire county.

* * * * *

Shelby County. The entire county.

* * * * *

Tippecanoe County. The entire county.

* * * * *

Vermillion County. The entire county.

* * * * *

White County. The entire county.

* * * * *

Maine

Oxford County. The entire county.

Maryland

* * * * *

Frederick County. The entire county.

* * * * *

Michigan

Alcona County. The entire county.

Allegan County. The entire county.

Alpena County. The entire county.

Antrim County. The entire county.

Arenac County. The entire county.

Barry County. The entire county.

Bay County. The entire county.

Benzie County. The entire county.

Berrien County. The entire county.

Branch County. The entire county.

Calhoun County. The entire county.

Cass County. The entire county.

Charlevoix County. The entire county.

Cheboygan County. The entire county.

Chippewa County. The entire county.

Clare County. The entire county.

Clinton County. The entire county.

Crawford County. The entire county.

Delta County. The entire county.

Eaton County. The entire county.

Emmet County. The entire county.

Genesee County. The entire county.

Gladwin County. The entire county.

Grand Traverse County. The entire county.

Gratiot County. The entire county.

Hillsdale County. The entire county.

Huron County. The entire county.

Ingham County. The entire county.

Ionia County. The entire county.

Iosco County. The entire county.

Isabella County. The entire county.

Jackson County. The entire county.

Kalamazoo County. The entire county.

Kalkaska County. The entire county.

Kent County. The entire county.

Lake County. The entire county.

Lapeer County. The entire county.

Leelanau County. The entire county.

Lenawee County. The entire county.

Livingston County. The entire county.

Luce County. The entire county.

Mackinac County. The entire county.

Macomb County. The entire county.

Manistee County. The entire county.

Marquette County. The entire county.

Mason County. The entire county.

Mecosta County. The entire county.

Midland County. The entire county.

Missaukee County. The entire county.

Monroe County. The entire county.

Montcalm County. The entire county.

Montmorency County. The entire county.

Muskegon County. The entire county.

Newaygo County. The entire county.

Oakland County. The entire county.

Oceana County. The entire county.

Ogemaw County. The entire county.

Osceola County. The entire county.

Oscoda County. The entire county.

Otsego County. The entire county.

Ottawa County. The entire county.

Presque Isle County. The entire county.

Roscommon County. The entire county.

Saginaw County. The entire county.

St. Clair County. The entire county.

St. Joseph County. The entire county.

Sanilac County. The entire county.

Schoolcraft County. The entire county.

Shiawassee County. The entire county.

Tuscola County. The entire county.

Van Buren County. The entire county.

Washtenaw County. The entire county.

Wayne County. The entire county.

Wexford County. The entire county.

New York

Allegany County. The entire county.

Broome County. The entire county.

Cattaraugus County. The entire county.

Cayuga County. The entire county.

Chautauqua County. The entire county.

Chemung County. The entire county.

Chenango County. The entire county.

Cortland County. The entire county.

Delaware County. The entire county.

Erie County. The entire county.

Genesee County. The entire county.

Jefferson County. The entire county.

Lewis County. The entire county.

Livingston County. The entire county.

Madison County. The entire county.

Monroe County. The entire county.

Niagara County. The entire county.

Oneida County. The entire county.

Onondaga County. The entire county.

Ontario County. The entire county.

Orleans County. The entire county.

Oswego County. The entire county.

Otsego County. The entire county.

St. Lawrence County. The entire county.

Schuyler County. The entire county.

Seneca County. The entire county.

Steuben County. The entire county.

Tioga County. The entire county.

Tompkins County. The entire county.

Wayne County. The entire county.

Wyoming County. The entire county.

Yates County. The entire county.

Ohio

* * * * *

Butler County. The entire county.

* * * * *

Champaign County. The entire county.

Clark County. The entire county.

* * * * *

Darke County. The entire county.

* * * * *

Erie County. The entire county.

Fairfield County. The entire county.

* * * * *

Greene County. The entire county.

Guernsey County. The entire county.

Hamilton County. The entire county.

* * * * *

Knox County. The entire county.

* * * * *

Madison County. The entire county.

* * * * *

Miami County. The entire county.

Montgomery County. The entire county.

* * * * *

Muskingum County. The entire county.

* * * * *

Pickaway County. The entire county.

* * * * *

Preble County. The entire county.

* * * * *

Shelby County. The entire county.

* * * * *

Vinton County. The entire county.

Warren County. The entire county.

* * * * *

Pennsylvania

* * * * *

Huntingdon County. The entire county.

* * * * *

Vermont

Caledonia County. The entire county.

* * * * *

West Virginia

The entire State.

* * * * *

(d) * * *

Done in Washington, DC, this 11th day of July 2001.
Bobby R. Acord,
Acting Administrator, Animal and Plant Health Inspection Service.

[FR Doc. 01-17902 Filed 7-17-01; 8:45 am]

BILLING CODE 3410-34-P